DEPARTMENT OF TRANSPORTATION

Federal Aviation Administration

14 CFR Part 73

[Docket No. FAA-2013-0178; Airspace Docket No. 13-ASO-1]

RIN 2120-AA66

Amendment of Multiple Restricted Areas; Eglin AFB, FL

AGENCY: Federal Aviation Administration (FAA), DOT.

ACTION: Final rule.

SUMMARY: This action changes the name of the using agency for Restricted Areas R-2914A and B; R-2915A, B and C; R-2918; and R-2919A and B, with the Eglin Range Complex, FL, to read “U.S. Air Force, Commander 96th Test Wing, Eglin AFB, FL. This is an administrative change only and does not affect the boundaries; designated altitudes; time of designation; or activities conducted within the affected restricted areas.

DATES: Effective date: 0901 UTC, May 2, 2013.

FOR FURTHER INFORMATION CONTACT: Paul Gallant, Airspace Policy and ATC Procedures Group, Office of Airspace Services, Federal Aviation Administration, 800 Independence Avenue SW., Washington, DC 20591; telephone: (202) 267-8783.

SUPPLEMENTARY INFORMATION:

Background

As a result of reorganization at Eglin AFB, FL, the name of the using agency for multiple restricted areas within the Eglin Range Complex was changed from “Armament Center” to “Test Wing.” This action is an administrative name change only and does not affect the current configuration or use of the restricted areas.

The Rule

This action amends Title 14 Code of Federal Regulations (14 CFR) part 73 by amending the using agency name for Restricted Areas R-2914A and B; R-2915A, B and C; R-2918; and R-2919A and B, Eglin AFB, FL, from “U.S. Air Force, Commander, Air Armament Center, Eglin AFB, FL,” to “U.S. Air Force, Commander 96th Test Wing, Eglin AFB, FL.” This is an administrative change to update the title of the using agency. It does not affect the boundaries, designated altitudes, or activities conducted within the restricted area; therefore, notice and public procedures under 5 U.S.C. 553(b) are unnecessary.

The FAA has determined that this action only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

The FAA's authority to issue rules regarding aviation safety is found in Title 49 of the United States Code. Subtitle I, Section 106 describes the authority of the FAA Administrator. Subtitle VII, Aviation Programs, describes in more detail the scope of the agency's authority.

This rulemaking is promulgated under the authority described in Subtitle VII, Part A, Subpart I, Section 40103. Under that section, the FAA is charged with prescribing regulations to assign the use of the airspace necessary to ensure the safety of aircraft and the efficient use of airspace. This regulation is within the scope of that authority as it makes an administrative change to the descriptions of Restricted Areas R-2914A and B; R-2915A, B and C; R-2918; and R-2919A and B, Eglin AFB, FL.

Environmental Review

The FAA has determined that this action qualifies for categorical exclusion under the National Environmental Policy Act in accordance with FAA Order 1050.1E, Environmental Impacts: Policies and Procedures, paragraph 311d. This airspace action is an administrative change to the descriptions of the affected restricted area to update the using agency name. It does not alter the dimensions, altitudes, or times of designation of the airspace; therefore, it is not expected to cause any potentially significant environmental impacts, and no extraordinary circumstances exists that warrant preparation of an environmental assessment.

List of Subjects in 14 CFR Part 73

Airspace, Prohibited areas, Restricted areas.

Adoption of the Amendment

In consideration of the foregoing, the Federal Aviation Administration amends 14 CFR part 73, as follows:

PART 73—SPECIAL USE AIRSPACE

1. The authority citation for part 73 continues to read as follows:

Authority: 49 U.S.C. 106(g), 40103, 40113, 40120; E.O. 10854, 24 FR 9565, 3 CFR, 1959-1963 Comp., p. 389.

§ 73.29 [Amended]

2. Section 73.29 is amended as follows:

1. R-2914A Valparaiso, FL [Amended]

By removing the words “Using agency. U.S. Air Force, Commander, Air Armament Center, Eglin AFB, FL,” and inserting the words “Using agency. U.S. Air Force, Commander, 96th Test Wing, Eglin AFB, FL”

2. R-2914B Valparaiso, FL [Amended]

By removing the words “Using agency. U.S. Air Force, Commander, Air Armament Center, Eglin AFB, FL,” and inserting the words “Using agency. U.S. Air Force, Commander, 96th Test Wing, Eglin AFB, FL”

3. R-2915A Eglin AFB, FL [Amended]

By removing the words “Using agency. U.S. Air Force, Commander, Air Armament Center, Eglin AFB, FL,” and inserting the words “Using agency. U.S. Air Force, Commander, 96th Test Wing, Eglin AFB, FL”

4. R-2915B Eglin AFB, FL [Amended]

By removing the words “Using agency. U.S. Air Force, Commander, Air Armament Center, Eglin AFB, FL,” and inserting the words “Using agency. U.S. Air Force, Commander, 96th Test Wing, Eglin AFB, FL”

5. R-2915C Eglin AFB, FL [Amended]

By removing the words “Using agency. U.S. Air Force, Commander, Air Armament Center, Eglin AFB, FL,” and inserting the words “Using agency. U.S. Air Force, Commander, 96th Test Wing, Eglin AFB, FL”

6. R-2918 Valparaiso, FL [Amended]

By removing the words “Using agency. U.S. Air Force, Commander, Air Armament Center, Eglin AFB, FL,” and inserting the words “Using agency. U.S. Air Force, Commander, 96th Test Wing, Eglin AFB, FL”

7. R-2919A Valparaiso, FL [Amended]

By removing the words “Using agency. U.S. Air Force, Commander, Air Armament Center, Eglin AFB, FL,” and inserting the words “Using agency. U.S. Air Force, Commander, 96th Test Wing, Eglin AFB, FL”

8. R-2919B Valparaiso, FL [Amended]

By removing the words “Using agency. U.S. Air Force, Commander, Air Armament Center, Eglin AFB, FL,” and inserting the words “Using agency. U.S. Air Force, Commander, 96th Test Wing, Eglin AFB, FL”

Issued in Washington, DC, on March 14, 2013.
Gary A. Norek,
Manager, Airspace Policy and ATC Procedures Group.

[FR Doc. 2013-06366 Filed 3-19-13; 8:45 am]

BILLING CODE 4910-13-P